FARM CREDIT ADMINISTRATION

12 CFR Parts 619, 620, and 621

RIN 3052-AC35

Definitions; Disclosure to Shareholders; Accounting and Reporting Requirements; Disclosure and Accounting Requirements; Effective Date

AGENCY: Farm Credit Administration.

ACTION: Final rule; notice of effective date.

SUMMARY: The Farm Credit Administration (FCA or Agency), through the FCA Board (Board), issued a final rule under parts 619, 620, and 621 on June 17, 2009, amending FCA's regulations related to disclosure and reporting practices of Farm Credit System institutions. In accordance with 12 U.S.C. 2252, the effective date of the final rule is 30 days from the date of publication in the Federal Register during which either or both Houses of Congress are in session. Based on the records of the sessions of Congress, the effective date of the regulations is August 5, 2009.

DATES: Effective Date: Under the authority of 12 U.S.C. 2252, the regulation amending 12 CFR parts 619, 620, and 621 published on June 17, 2009 (74 FR 28597), is effective August 5, 2009.

FOR FURTHER INFORMATION CONTACT: Thomas R. Risdal, Senior Policy Analyst, Office of Regulatory Policy, Farm Credit Administration, McLean, Virginia 22102-5090, (703) 883-4498, TTY (703) 883-4434, or Robert Taylor, Attorney, Office of General Counsel, Farm Credit Administration, McLean, Virginia 22102-5090, (703) 883-4020, TTY (703) 883-4020.

(12 U.S.C. 2252(a)(9) and (10))

Dated: August 5, 2009.
Roland E. Smith,
Secretary, Farm Credit Administration Board.

[FR Doc. E9-19122 Filed 8-10-09; 8:45 am]

BILLING CODE 6705-01-P